DEPARTMENT OF TRANSPORTATION

Office of the Secretary of Transportation

49 CFR Part 1

[Docket No. DOT-OST-1999-6189]

RIN 9991-AA55

Organization and Delegation of Powers and Duties: Federal Railroad Administrator and Federal Transit Administrator

AGENCY: Office of the Secretary of Transportation (OST), Department of Transportation (DOT).

ACTION: Final rule.

SUMMARY: This final rule delegates all of the authorities vested in the Secretary of Transportation (Secretary) by the Rail Safety Improvement Act of 2008 to the Administrator of the Federal Railroad Administration (FRA). This final rule also delegates the authorities vested in the Secretary by the Passenger Rail Investment and Improvement Act of 2008 to the Administrator of FRA, except for the authorities vested in the Secretary by Title VI of that Act, which are delegated in this final rule to the Administrator of the Federal Transit Administration (FTA).

DATES: Effective Date: June 5, 2009.

FOR FURTHER INFORMATION CONTACT: Bonnie Angermann, Office of General Counsel, Department of Transportation, 1200 New Jersey Ave., SE., Washington, DC 20590; Telephone (202) 366-9166.

SUPPLEMENTARY INFORMATION: This final rule updates the Code of Federal Regulations (CFR) section that sets forth authorities delegated from the Secretary of Transportation to other Departmental officials. Specifically, all authorities vested in the Secretary by the Rail Safety Improvement Act of 2008, Div. A of Public Law 110-432; 122 Stat. 4848 et seq. (Oct. 16, 2008), are delegated to the Administrator of FRA. This final rule also delegates the authorities vested in the Secretary by the Passenger Rail Investment and Improvement Act of 2008, Div. B of Public Law 110-432; 122 Stat. 4907 et seq. (Oct. 16, 2008), to the Administrator of FRA, except for the authorities vested in the Secretary under one title of that Act, which are delegated in this final rule to the Administrator of FTA.

Part 1 of Title 49 of the CFR describes the organization of DOT and provides for the performance of duties imposed upon, and the exercise of powers vested in, the Secretary. This final rule corrects a typographical error in section 1 (“Purpose”) of this part.

Section 1.49 of this part delegates to the Administrator of FRA the authority to carry out various functions and activities related to the mission of the agency. This rule delegates all authorities vested in the Secretary by the Rail Safety Improvement Act of 2008 to the Administrator of FRA. In addition, this rule delegates the authorities vested in the Secretary by Titles I through V of the Passenger Rail Investment and Improvement Act of 2008 (122 Stat. 4907 et seq.) to the Administrator of FRA. These titles address intercity rail passenger services and related programs. This final rule adds paragraphs (oo) and (pp) to 49 CFR 1.49 to reflect these delegations to the Administrator of FRA.

Section 1.51 of this part delegates to the Administrator of FTA the authority to carry out various functions and activities related to the mission of the agency. This rule delegates the authority vested in the Secretary by Title VI of the Passenger Rail Investment and Improvement Act of 2008 (122 Stat. 4968), as it relates to capital and preventive maintenance projects for the Washington Metropolitan Area Transit Authority, to the Administrator of FTA. The FTA is responsible for mass transportation programs. This rule adds paragraph (j) to 49 CFR 1.51 to reflect these delegations.

Since these amendments relate to DOT management, organization, procedure, and practice, notice and comment are unnecessary under 5 U.S.C. 553(b). Further, since the final rule expedites DOT's ability to meet the statutory intent of the applicable laws and regulations covered by this delegation, the Secretary finds good cause under 5 U.S.C. 553(d)(3) for the final rule to be effective on the date of publication in the Federal Register.

Regulatory Analysis and Notices

A. Executive Order 12866 and DOT Regulatory Policies and Procedures

The final rule is not considered a significant regulatory action under Executive Order 12866 and the Regulatory Policies and Procedures of DOT (44 FR 11034). There are no costs associated with this final rule because it simply delegates authority from one DOT official to another.

B. Executive Order 13175

This final rule has been analyzed in accordance with the principles and criteria contained in Executive Order 13175 (“Consultation and Coordination With Indian Tribal Governments”). For the reasons previously stated, this final rule does not significantly or uniquely affect the communities of the Indian tribal governments and does not impose substantial direct compliance costs; therefore, the funding and consultation requirements of Executive Order 13175 do not apply.

C. Regulatory Flexibility Act

Because no notice of proposed rulemaking is required for this rule under the Administrative Procedure Act, 5 U.S.C. 553, the provisions of the Regulatory Flexibility Act (5 U.S.C. 601 et seq.) do not apply. We also do not believe this rule would impose any costs on small entities because it simply delegates authority from one DOT official to another. Therefore, I certify this final rule will not have a significant economic impact on a substantial number of small entities.

D. Paperwork Reduction Act

This final rule contains no information collection requirements under the Paperwork Reduction Act of 1995 (44 U.S.C. 3501-3520).

E. Unfunded Mandates Reform Act

DOT has determined that the requirements of Title II of the Unfunded Mandates Reform Act of 1995 do not apply to this rulemaking.

List of Subjects in 49 CFR Part 1

Authority delegations (Government agencies), Organization and functions (Government agencies).

For the reasons set forth in the preamble, part 1, subtitle A of title 49, Code of Federal Regulations is amended as follows:

PART 1—[AMENDED]

1. The authority citation for part 1 is revised to read as follows:

Authority: 49 U.S.C. 322; 46 U.S.C. 2104(a); 28 U.S.C. 2672; 31 U.S.C. 3711(a)(2); Pub. L. 101-552, 104 Stat. 2736; Pub. L. 106-159, 113 Stat. 1748; Pub. L. 107-71, 115 Stat. 597; Pub. L. 107-295, 116 Stat. 2064; Pub. L. 108-136, 117 Stat. 1392; Pub. L. 101-115, 103 Stat. 691; Pub. L. 108-293, 118 Stat. 1028; Pub. L. 109-364, 120 Stat. 2083; Pub. L. 110-140, 121 Stat. 1492; Pub. L. 110-432, 122 Stat. 4848.

2. Revise § 1.1 to read as follows:

§ 1.1 Purpose.

This part describes the organization of the Department of Transportation and provides for the performance of duties imposed upon, and the exercise of powers vested in, the Secretary of Transportation by law.

3. Amend § 1.49 by adding paragraphs (oo) and (pp) as follows:

§ 1.49 Delegations to Federal Railroad Administrator.

* * * * *

(oo) Carry out the functions and exercise the authority vested in the Secretary by the Rail Safety Improvement Act of 2008 (Pub. L. 110-432, Div. A, 122 Stat. 4848).

(pp) Carry out the functions and exercise the authority vested in the Secretary by the Passenger Rail Investment and Improvement Act of 2008 (Pub. L. 110-432, Div. B, 122 Stat. 4907), except Title VI (122 Stat. 4968) as it relates to capital and preventive maintenance projects for the Washington Metropolitan Area Transit Authority.

4. Amend § 1.51 by adding paragraph (j) as follows:

§ 1.51 Delegations to Federal Transit Administrator.

* * * * *

(j) Title VI of the Passenger Rail Investment and Improvement Act of 2008 (Pub. L. 110-432, Div. B, 122 Stat. 4968).

Ray LaHood,
Secretary of Transportation.

[FR Doc. E9-13021 Filed 6-4-09; 8:45 am]

BILLING CODE 4910-9X-P